DEPARTMENT OF TRANSPORTATION

Coast Guard

33 CFR Part 117

[CGD01-02-102]

Drawbridge Operation Regulations: Saugatuck River, CT

AGENCY: Coast Guard, DOT.

ACTION: Notice of temporary deviation from regulations.

SUMMARY: The Commander, First Coast Guard District, has issued a temporary deviation from the drawbridge operation regulations for the Metro North Saga Bridge, mile 1.1, across the Saugatuck River in Connecticut. This temporary deviation will allow the bridge to remain in the closed position from 1 a.m. on September 7, 2002 through 8 p.m. on September 8, 2002. This temporary deviation is necessary to facilitate structural repairs at the bridge.

DATES: This deviation is effective from September 7, 2002 through September 8, 2002.

FOR FURTHER INFORMATION CONTACT: Joseph Schmied, Project Officer, First Coast Guard District, at (212) 668-7195.

SUPPLEMENTARY INFORMATION: The Metro North Saga Bridge has a vertical clearance in the closed position of 13 feet at mean high water and 20 feet at mean low water. The existing regulations are listed at 33 CFR 117.221.

The bridge owner, Metro North, requested a temporary deviation from the drawbridge operating regulations to facilitate structural maintenance, replacement of timber rail stringers and structural steel, at the bridge. The bridge must remain closed during these structural repairs.

The bridge opening records indicate this bridge has not received any requests to open during the requested closure time during the past four years; therefore, no navigational impacts to the marine transit system are expected.

This deviation from the drawbridge operation regulations will allow the bridge to remain in the closed position from 1 a.m. on September 7, 2002 through 8 p.m. on September 8, 2002.

This deviation from the drawbridge operation regulations is authorized under 33 CFR 117.35, and will be performed with all due speed in order to return the bridge to normal operation as soon as possible.

Dated: August 26, 2002.
V.S. Crea,
Rear Admiral, U.S. Coast Guard, Commander, First Coast Guard District.

[FR Doc. 02-22736 Filed 9-5-02; 8:45 am]

BILLING CODE 4910-15-P